FEDERAL RETIREMENT THRIFT INVESTMENT BOARD

Employee Thrift Advisory Council

TIME AND DATE: 2 p.m. (EST), November 15, 2011.

PLACE: 4th Floor, Conference Room, 1250 H Street, NW., Washington, DC.

STATUS: Open.

MATTERS TO BE CONSIDERED: 1. Approval of the minutes of the April 18, 2011 meeting.

2. Report of the Executive Director on Thrift Savings Plan status:

(a) Updated TSP statistics.

(b) Update on implementation of Roth TSP accounts.

3. Legislation:

(a) Update on Board Member nominations.

(b) Nonappropriated Fund status.

(c) 3-year statute of limitations for claims against the TSP.

(d) IRS Levy.

(e) TSP contributions from terminal Annual Leave.

4. New Business.

CONTACT PERSON FOR MORE INFORMATION: Thomas J. Trabucco, Director, Office of External Affairs, (202) 942-1640.

Dated: October 24, 2011.
Thomas K. Emswiler,
General Counsel, Federal Retirement Thrift Investment Board.

[FR Doc. 2011-27886 Filed 10-24-11; 4:15 pm]

BILLING CODE 6760-01-P